DEPARTMENT OF ENERGY

Federal Energy Regulatory Commission

[Docket No. RP02-489-001]

Maritimes & Northeast Pipeline, L.L.C.; Notice of Compliance Filing

October 18, 2002.

Take notice that on October 15, 2002, Maritimes & Northeast Pipeline, L.L.C. (Maritimes) tendered for filing as part of its FERC Gas Tariff, First Revised Volume No. 1, the tariff sheets listed in Appendices A and B of the filing, to be effective October 1, 2002 or November 1, 2002, as specified in the filing.

Maritimes states that it is making this filing pursuant to a letter order issued by the Commission in the captioned docket on September 27, 2002. The September 27 order conditionally accepted certain tariff sheets filed with Maritimes' initial compliance filing for implementation of Order No. 587-O, and required that Maritimes revise or remove other tariff sheets as discussed in the body of the order. The tariff sheets listed in Appendices A and B of Maritimes' filing reflect these modifications.

Maritimes states that copies of its filing have been mailed to all affected customers of Maritimes and interested state commissions, and to all parties on the Commission's official service list in this proceeding.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27288 Filed 10-24-02; 8:45 am]

BILLING CODE 6717-01-P